DEPARTMENT OF TRANSPORTATION

Federal Aviation Administration

14 CFR Part 71

[Docket No. FAA-2023-0995; Airspace Docket No. 23-ASO-17]

RIN 2120-AA66

Amendment of Class E Airspace; Nashville, TN

AGENCY: Federal Aviation Administration (FAA), DOT.

ACTION: Final rule.

SUMMARY: This action amends the Class E airspace designated as an extension to a Class C surface area and Class E airspace extending upward from 700 feet above the surface in Nashville, TN, as the result of a Class C Airspace modification and a biennial evaluation. This action reduces the Class E airspace designated as an extension to the Nashville International Airport Class C airspace. This action also extends the Class E airspace extending upward from 700 feet above the surface surrounding Music City Executive Airport and reduces the Class E airspace extending upward from 700 feet above the surface surrounding Lebanon Municipal Airport, Murfreesboro Municipal Airport, and John C. Tune Airport.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Jennifer Ledford, Operations Support Group, Office of Policy, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as controlled airspace is necessary for the safety and management of instrument flight rules (IFR) operations in the area.

History

The FAA published a notice of proposed rulemaking for Docket No. FAA 2023-0995 in the Federal Register (88 FR 29565; May 8, 2023), proposing to amend Class E designated as an extension to the Nashville International Airport Class C airspace. This action extends the Class E airspace extending upward from 700 feet above the surface surrounding Music City Executive Airport in Gallatin, TN; and reduces the Class E airspace extending upward from 700 feet above the surface surrounding Lebanon Municipal Airport in Lebanon, TN, Murfreesboro Municipal Airport in Murfreesboro TN, and John C. Tune Airport in Nashville, TN. Interested parties were invited to participate in this rulemaking effort by submitting written comments on the proposal to the FAA. No comments were received.

Incorporation by Reference

Class E airspace designations are published in paragraphs 6003 and 6005 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending Class E airspace designated as an extension to the Class C surface area of Nashville International Airport by extending it from the 7-mile radius of the airport instead of the 5-mile radius, as a result of the new Class C structure. The FAA also amends the Class E airspace extending upward from 700 feet above the surface surrounding Music City Executive Airport by extending it from within a 7-mile radius to within a 7.5-mile radius of the airport, and by reducing the Class E airspace extending upward from 700 feet above the surface surrounding Lebanon Municipal Airport from within a 10-mile radius to within an 8-mile radius of the airport. The FAA is reducing the Class E airspace extending upward from 700 feet above the surface surrounding Murfreesboro Municipal Airport from within a 9-mile radius to within a 7.3-mile radius of the airport and 2.6 miles each side of the 182° bearing from the airport, extending from the 7.3-mile radius to 12 miles south of the airport. Additionally, the FAA is reducing the airspace extending upward from 700 feet above the surface surrounding John C. Tune Airport from within an 8.6-mile radius to within an 8.1-mile radius of the airport.

The FAA is making these changes to support IFR procedures as a result of a Class C Airspace modification and a biennial evaluation.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6003 Class E Airspace Area Designated as an Extension to a Class C Surface Area.

* * * * *

ASO TN E3 Nashville, TN [Amended]

Nashville International Airport, TN

(Lat. 36°07′31″ N, long. 86°40′35″ W)

Nashville VORTAC

(Lat. 36°07′62″ N, long. 86°40′95″ W)

That airspace extending upward from the surface extending from the 7-mile radius of Nashville International Airport to an 11.7-mile radius southeast of the airport, from the Nashville VORTAC 161° radial clockwise to the 195° radial, and to an 8.9-mile radius southwest of the airport from the 195° radial of the VORTAC clockwise to the 231° radial of the VORTAC.

* * * * *

Paragraph 6005 Class E Airspace Areas Extending Upward From 700 Feet or More Above the Surface of the Earth.

* * * * *

ASO TN E5 Nashville, TN [Amended]

Nashville International Airport, TN

(Lat. 36°07′28″ N, long. 86°40′41″ W)

Smyrna Airport

(Lat. 36°00′32″ N, long. 86°31′12″ W)

Music City Executive Airport

(Lat. 36°22′30″ N, long. 86°24′30″ W)

Lebanon Municipal Airport

(Lat. 36°11′25″ N, long. 86°18′56″ W)

Murfreesboro Municipal Airport

(Lat. 35°52′43″ N, long. 86°22′39″ W)

John C. Tune Airport

(Lat. 36°10′59″ N, long. 86°53′11″ W)

Vanderbilt University Medical Center Hospital Point In Space Coordinates

(Lat. 36°08′30″ N, long. 86°48′6″ W)

That airspace extending upward from 700 feet above the surface within a 15-mile radius of Nashville International Airport, and within an 11.5-mile radius of Smyrna Airport, and within a 7.5-mile radius of Music City Executive Airport, and within an 8-mile radius of Lebanon Municipal Airport, and within a 7.3-mile radius of Murfreesboro Municipal Airport, and within 2.6 miles each side of the 182° bearing from the airport extending from the 7.3-mile radius to 12 miles south of the airport, and within an 8.1-mile radius of John C. Tune Airport, and that airspace within a 6-mile radius of the Point In Space serving Vanderbilt University Medical Center Hospital.

* * * * *

Issued in College Park, GA, on July 17, 2023.
Andreese Davis,
Manager, Airspace & Procedures Team South, Eastern Service Center, Air Traffic Organization.

[FR Doc. 2023-15580 Filed 7-21-23; 8:45 am]

BILLING CODE 4910-13-P